DEPARTMENT OF HEALTH AND HUMAN SERVICES

National Institutes of Health

National Cancer Institute Amended; Notice of Meeting

Notice is hereby given of a change in the meeting of the NCI-Frederick Advisory Committee, September 24, 2013, 09:00 a.m. to September 24, 2013, 04:00 p.m., Frederick National Laboratory for Cancer Research, Advanced Technology Research Facility (ATRF), Room E111, 8560 Progress Drive, Frederick, MD 21702 which was published in the Federal Register on August 16, 2013, 78 FR 50068.

The meeting notice is amended to change the ending time of the meeting until 05:00 p.m. The meeting is open to the public.

Dated: August 27, 2013.
Melanie J. Gray,
Program Analyst, Office of Federal Advisory Committee Policy.

[FR Doc. 2013-21321 Filed 8-30-13; 8:45 am]

BILLING CODE 4140-01-P